INTERNATIONAL TRADE COMMISSION

[Inv. No. 337-TA-422]

Notice of Commission Determination Not To Review a Final Initial Determination Finding a Violation of Section 337; Schedule for Written Submissions on Remedy, the Public Interest, and Bonding

In the Matter of Certain Two-Handle Centerset Faucets and Escutcheons, and Components Thereof.

AGENCY: U.S. International Trade Commission.

ACTION: Notice.

SUMMARY: Notice is hereby given that the U.S. International Trade Commission has determined not to review the final initial determination (ID) issued by the presiding administrative law judge (ALJ) on March 17, 2000, finding a violation of section 337 of the Tariff Act of 1930, 19 U.S.C. 1337, in the above-captioned investigation.

FOR FURTHER INFORMATION CONTACT: Michael Diehl, Esq., Office of the General Counsel, U.S. International Trade Commission, telephone 202-205-3095. General information concerning the Commission may also be obtained by accessing its Internet server (http://www.usitc.gov). Hearing-impaired persons are advised that information on the matter can be obtained by contacting the Commission's TDD terminal on 202-205-1810.

SUPPLEMENTARY INFORMATION: This investigation was instituted on June 17, 2000, based on a complaint by Moen Incorporated of Ohio. 64 FR 32522. Moen's complaint alleged unfair acts in violation of section 337 in the importation and sale of certain two-handle centerset faucets and escutcheons, and components thereof (faucets). The complaint alleged that five respondents had infringed a design patent held by complainant Moen. The five respondents named in the investigation were Foremost International Trading, Inc. of East Hanover, New Jersey (Foremost), Chung Cheng Faucet Co. Ltd. of Hsien Taiwan (Chung Cheng), Hometek International Group of Illinois (Hometek), Stuhlbarg International Sales Company Inc. d.b.a. Sisco, Inc. of Rancho Dominguez, California (Sisco), and Lota International Co. Ltd. of the People's Republic of China (Lota).

On October 6, 1999, the Commission determined not to review an ID terminating the investigation as to Hometek on the basis of a consent order. On December 29, 1999, the Commission issued a notice that an ID granting complainant's motion for partial summary determination that it had satisfied the economic prong of the domestic industry requirement had become the determination of the Commission. An evidentiary hearing was held December 13-15, 1999, with complainant, respondents Foremost and Chung Cheng, and the Commission investigative attorney participating. On February 1, 2000, the Commission determined not to review an ID terminating the investigation as to respondents Sisco and Lota.

On March 17, 2000, the ALJ issued his final ID, finding a violation of section 337 by Foremost and Chung Cheng, the two remaining respondents. The ALJ also issued his recommendations on remedy and bonding. The ALJ recommended that the Commission issue a general exclusion order directing that faucets that infringe the ‘466 patent be excluded from entry into the United States. He also recommended a 264 percent bond during the period of Presidential review.

No party filed a petition for review of the ID.

Having examined the record in this investigation, the Commission has determined not to review the ID.

In connection with the final disposition of this investigation, the Commission may issue: (1) An order that could result in the exclusion of the subject articles from entry into the United States; and/or (2) cease and desist orders that could result in respondents being required to cease and desist from engaging in unfair action in the importation and sale of such articles. Accordingly, the Commission is interested in receiving written submissions that address the form of remedy that should be ordered. If a party seeks exclusion of an article from entry into the United States for purposes other than entry for consumption, the party should so indicate and provide information establishing that activities involving other types of entry either are adversely affecting it or likely to do so. For background, see In the Matter of Certain Devices for Connecting Computers via Telephone Lines, Inv. No. 337-TA-360, USITC Pub. No. 2843 (December 1994) (Commission Opinion).

If the Commission contemplates some form of remedy, it must consider the effects of that remedy upon the public interest. The factors the Commission will consider include the effect that an exclusion order and/or cease and desist orders would have on: (1) The public health and welfare; (2) competitive conditions in the U.S. economy; (3) U.S. production of articles that are like or directly competitive with those that are subject to investigation; and (4) U.S. consumers. The Commission is therefore interested in receiving written submissions that address the aforementioned public interest factors in the context of this investigation.

If the Commission orders some form of remedy, the President has 60 days to approve or disapprove the Commission's action. During this period, the subject articles would be entitled to enter the United States under a bond, in an amount determined by the Commission and prescribed by the Secretary of the Treasury. The Commission is therefore interested in receiving submissions concerning the amount of the bond that should be imposed.

Written Submissions: The parties to the investigation, interested government agencies, and any other interested parties are encouraged to file written submissions on remedy, the public interest, and bonding. Such submissions should address the March 17, 2000, recommended determination by the ALJ on remedy and bonding. Complainant and the Commission investigative attorney are also requested to submit proposed remedial orders for the Commission's consideration. The written submissions and proposed remedial orders must be filed no later than close of business on May 5, 2000. Reply submissions must be filed no later than the close of business on May 12, 2000. No further submissions on these issues will be permitted unless otherwise ordered by the Commission.

Persons filing written submissions must file with the Office of the Secretary the original document and 14 true copies thereof on or before the deadlines stated above. Any person desiring to submit a document (or portion thereof) to the Commission in confidence must request confidential treatment unless the information has already been granted such treatment during the proceedings. All such requests should be directed to the Secretary of the Commission and must include a full statement of the reasons why the Commission should grant such treatment. See section 201.6 of the Commission's Rules of Practice and Procedure, 19 CFR 201.6. Documents for which confidential treatment by the Commission is sought will be treated accordingly. All nonconfidential written submissions will be available for public inspection at the Office of the Secretary.

This action is taken under the authority of section 337 of the Tariff Act of 1930, 19 U.S.C. 1337, and sections 210.45-210.51 of the Commission's Rules of Practice and Procedure, 19 CFR 210.45-210.51.

Copies of the public version of the ID, and all other nonconfidential documents filed in connection with this investigation, are or will be available for inspection during official business hours (8:45 a.m. to 5:15 p.m.) in the Office of the Secretary, U.S. International Trade Commission, 500 E Street SW, Washington, DC 20436, telephone 202-205-2000.

By order of the Commission.
Issued: April 20, 2000.
Donna R. Koehnke,
Secretary.

[FR Doc. 00-10426 Filed 4-25-00; 8:45 am]

BILLING CODE 7020-02-P